DEPARTMENT OF AGRICULTURE

Agricultural Research Service

Notice of Intent To Grant Exclusive License

AGENCY: Agricultural Research Service, USDA.

ACTION: Notice of intent.

SUMMARY: Notice is hereby given that the U.S. Department of Agriculture, Agricultural Research Service, intends to grant to ORO AGRI INC. of TROPHY CLUB, TEXAS, an exclusive license to U.S. Patent No. 7,579,183, “SAPROPHYTIC YEAST, PICHIA ANOMALA”, issued on AUGUST 25, 2009, and to U.S. Patent Application Serial No. 12/507,057, “GROWTH MEDIA AND SAPROPHYTIC USE FOR PICHIA ANOMALA”, filed on JULY 21, 2009.

DATES: Comments must be received on or before May 21, 2010.

ADDRESSES: Send comments to: USDA, ARS, Office of Technology Transfer, 5601 Sunnyside Avenue, Rm. 4-1174, Beltsville, Maryland 20705-5131.

FOR FURTHER INFORMATION CONTACT: June Blalock of the Office of Technology Transfer at the Beltsville address given above; telephone: 301-504-5989.

SUPPLEMENTARY INFORMATION: The Federal Government's patent rights in these inventions are assigned to the United States of America, as represented by the Secretary of Agriculture. It is in the public interest to so license these inventions as ORO AGRI INC. of TROPHY CLUB, TEXAS, has submitted a complete and sufficient application for a license. The prospective exclusive license will be royalty-bearing and will comply with the terms and conditions of 35 U.S.C. 209 and 37 CFR 404.7. The prospective exclusive license may be granted unless, within thirty (30) days from the date of this published Notice, the Agricultural Research Service receives written evidence and argument which establishes that the grant of the license would not be consistent with the requirements of 35 U.S.C. 209 and 37 CFR 404.7.

Richard J. Brenner,
Assistant Administrator.

[FR Doc. 2010-9109 Filed 4-20-10; 8:45 am]

BILLING CODE 3410-03-P